DEPARTMENT OF ENERGY

Federal Energy Regulatory Commission

[Docket No. RP00-500-003]

Chandeleur Pipe Line Company; Notice of Negotiated Rates

May 6, 2004.

Take notice that on April 30, 2004, Chandeleur Pipe Line Company (Chandeleur) tendered for filing as part of its FERC Gas Tariff, Second Revised Volume No. 1, Second Revised Sheet No. 73, to become effective on May 1, 2004.

Chandeleur states that the proposed change would update Chandeleur's tariff to reflect its current conditions regarding contracts containing Negotiated Rates.

Chandeleur further states that the principal reason for the tariff change is that effective April 2004, Chandeleur no longer had in effect any Negotiated Rate Agreements.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1086 Filed 5-12-04; 8:45 am]

BILLING CODE 6717-01-P